DEPARTMENT OF ENERGY

Federal Energy Regulatory Commission

Combined Notice of Filings #1

Take notice that the Commission received the following electric corporate filings:

Docket Numbers: EC19-9-000.

Applicants: CPV Fairview, LLC, Russell City Energy Company, LLC, Caledonia Generating, LLC.

Description: Notification of Change of GE Capital Global Holdings, LLC in October 11, 2018 Request for Authorization under Section 203 of the Federal Power Act.

Filed Date: 10/25/18.

Accession Number: 20181025-5045.

Comments Due: 5 p.m. ET 11/5/18.

Take notice that the Commission received the following electric rate filings:

Docket Numbers: ER18-2328-001.

Applicants: Midcontinent Independent System Operator, Inc.

Description: Tariff Amendment: 2018-10-24_Interconnection Agr 2nd Amendment to Update Pro Forma Language to be effective 3/15/2018.

Filed Date: 10/24/18.

Accession Number: 20181024-5129.

Comments Due: 5 p.m. ET 11/14/18.

Docket Numbers: ER19-181-000.

Applicants: MidAmerican Energy Company.

Description: § 205(d) Rate Filing: Remote LBA Gen. Interchange Agt. (Ivester Wind) to be effective 9/10/2018.

Filed Date: 10/24/18.

Accession Number: 20181024-5148.

Comments Due: 5 p.m. ET 11/14/18.

Docket Numbers: ER19-182-000.

Applicants: Midcontinent Independent System Operator, Inc.

Description: § 205(d) Rate Filing: 2018-10-25_SA 3190 Alta Farms Wind-Ameren Illinois GIA (J474) to be effective 10/15/2018.

Filed Date: 10/25/18.

Accession Number: 20181025-5042.

Comments Due: 5 p.m. ET 11/15/18.

Docket Numbers: ER19-183-000.

Applicants: NorthWestern Corporation.

Description: § 205(d) Rate Filing: Revised Standard LGIA (Montana) to Remove Appendix G pursuant to Order No. 827 to be effective 12/26/2018.

Filed Date: 10/25/18.

Accession Number: 20181025-5058.

Comments Due: 5 p.m. ET 11/15/18.

Docket Numbers: ER19-184-000.

Applicants: NorthWestern Corporation.

Description: Notice of Cancellation of Service Agreement No. 247 of Northwestern Corporation.

Filed Date: 10/25/18.

Accession Number: 20181025-5059.

Comments Due: 5 p.m. ET 11/15/18.

Docket Numbers: ER19-185-000.

Applicants: NorthWestern Corporation.

Description: § 205(d) Rate Filing: Revised LGIA (South Dakota) to remove Appendix G pursuant to Order No. 827 to be effective 12/26/2018.

Filed Date: 10/25/18.

Accession Number: 20181025-5066.

Comments Due: 5 p.m. ET 11/15/18.

Docket Numbers: ER19-186-000.

Applicants: Midcontinent Independent System Operator, Inc.

Description: § 205(d) Rate Filing: 2018-10-25_SA 3199 ATC-WPL EFCA (Northern Lights) to be effective 12/25/2018.

Filed Date: 10/25/18.

Accession Number: 20181025-5071.

Comments Due: 5 p.m. ET 11/15/18.

Docket Numbers: ER19-187-000.

Applicants: PJM Interconnection, L.L.C.

Description: § 205(d) Rate Filing: 3rd Quarterly 2018 Revisions to OA, Sch. 12 and RAA, Sch. 17 Members Lists to be effective 9/30/2018.

Filed Date: 10/25/18.

Accession Number: 20181025-5072.

Comments Due: 5 p.m. ET 11/15/18.

Docket Numbers: ER19-188-000.

Applicants: California Independent System Operator Corporation.

Description: § 205(d) Rate Filing: 2018-10-25 Transferred Frequency Response Agreement with Powerex Corp. to be effective 12/1/2018.

Filed Date: 10/25/18.

Accession Number: 20181025-5076.

Comments Due: 5 p.m. ET 11/15/18.

Docket Numbers: ER19-189-000.

Applicants: Gilroy Energy Center, LLC.

Description: § 205(d) Rate Filing: Revised RMR Agreement Filing to be effective 1/1/2019.

Filed Date: 10/25/18.

Accession Number: 20181025-5111.

Comments Due: 5 p.m. ET 11/15/18.

Docket Numbers: ER19-190-000.

Applicants: California Independent System Operator Corporation.

Description: § 205(d) Rate Filing: 2018-10-25 Transferred Frequency Response Agreement with City of Seattle to be effective 12/1/2018.

Filed Date: 10/25/18.

Accession Number: 20181025-5144.

Comments Due: 5 p.m. ET 11/15/18.

Take notice that the Commission received the following electric reliability filings:

Docket Numbers: RD19-1-000.

Applicants: North American Electric Reliability Corporation.

Description: Filing of the North American Electric Reliability Corporation for revisions to the Implementation Plans for MOD-026-1 and MOD-027-1 Reliability Standards.

Filed Date: 10/12/18.

Accession Number: 20181012-5113.

Comments Due: 5 p.m. ET 11/15/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 25, 2018.
Nathaniel J. Davis, Sr.,
Deputy Secretary.

[FR Doc. 2018-23741 Filed 10-30-18; 8:45 am]

BILLING CODE 6717-01-P